DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director of the Emergency Preparedness and Response Directorate has resolved any appeals resulting from this notification.

This final rule is issued in accordance with Section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | ◆Elevation in feet (NAVD) Modified | Communities affected
Boggs Creek:
Approximately 100 feet upstream of East McCarty Street | ◆556 | FEMA Docket No. P7675, City of Jefferson City.
Approximately 3,400 feet upstream of Scenic Drive | ◆612
Dickerson Creek:
Approximately 120 feet upstream of Business U.S. Highway 50 | ◆648 | Cole County, (Unincorporated Areas).
Approximately 1,880 feet upstream of confluence of Dickerson Creek Tributary No. 2 | ◆723
Dickerson Creek Tributary No. 1:
Approximately 180 feet upstream of the confluence with Dickerson Creek | ◆648 | FEMA Docket No. P7675, Cole County (Unincorporated Areas).
Approximately 740 feet upstream of Business U.S. Highway 50 | ◆651
Dickerson Creek Tributary No. 2:
At confluence with Dickerson Creek | ◆700 | City of Jefferson City Cole County (Unincorporated Areas).
Approximately 2,750 feet upstream of U.S. Highway 50 | ◆727
East Branch Wears Creek:
At confluence with Wears Creek | ◆561 | City of Jefferson City.
Approximately 150 feet upstream of Lafayette Street | ◆578
Grays Creek:
At the confluence with Missouri River | ◆562 | City of Jefferson City Cole County (Unincorporated Areas).
Approximately 2.2 miles upstream of State Highway 179/Rock Hill Road | ◆562
Grays Creek Tributary:
At the confluence with Grays Creek | ◆562 | City of Jefferson City.
Approximately 4,180 feet upstream of confluence with Grays Creek | ◆562
Moreau River:
At the confluence with Missouri River | ◆552 | City of Jefferson City Cole County (Unincorporated Areas).
Approximately 5.2 miles upstream of U.S. Highway 54 | ◆591
North Branch Wears Creek:
At confluence with Wears Creek: | ◆561 | FEMA Docket No. P7675, City of Jefferson City.
Approximately 30 feet upstream of Schellridge Drive/Jaycee Drive | ◆614
Osage River:
At the eastern County Boundary (approximately 7,750 feet downstream of Union Pacific Railroad) | ◆548 | City of Wardsville, Cole County (Unincorporated Areas).
Approximately 10.1 miles upstream of State Highway B | ◆563
Wears Creek:
Approximately 80 feet downstream of West Main Street | ◆557 | City of Jefferson City, Cole County (Unincorporated Areas).
Approximately 2,850 feet upstream of Frog Hollow Road | ◆609
ADDRESSES:
Unincorporated Areas of Cole County, Missouri
Maps are available for inspection at the Department of Public Works, 5055 Monticello Road, Jefferson City, Missouri.
City of Jefferson City, Cole County, Missouri
Maps are available for inspection at City Hall, 320 East McCarty Street, Jefferson City, Missouri.
City of Wardsville, Cole County, Missouri
Maps are available for inspection at 5805 Wardsville Road, Jefferson City, Missouri.
Big Papillion Creek:
Approximately 750 feet downstream of Harrison Street | ◆997 | FEMA Docket No. P7675, City of Omaha.
Approximately 200 feet downstream of Burlington Northern & Santa Fe Railway | ◆1,003
Elkhorn River:
Approximately 7,800 feet downstream of West Q Road | ◆1,102 | Douglas County (Unincorporated Areas).
Approximately 4,350 feet downstream of West Q Road | ◆1,105
Platte River:
Approximately 23,200 feet downstream of West Center Road/U.S. Highway 275/State Highway 92 | ◆1,102 | Douglas County (Unincorporated Areas).
At the northern County Boundary (approximately 35,500 feet upstream of Ida Street/State Highway 64) | ◆1,192
ADDRESSES:
Unincorporated Areas of Douglas County, Nebraska
Maps are available for inspection at Community Map Repository, 3015 Menke Circle, Omaha, Nebraska.
City of Omaha, Douglas County, Nebraska
Maps are available for inspection at the Community Map Repository, City of Omaha, 1819 Farnam Street, Omaha, Nebraska.
Elkhorn River:
Just upstream of the confluence with the Platte River | ♢1,086 | FEMA Docket No. P7675 Sarpy County (Unincorporated Areas).
At the northern County Boundary (approximately 5.75 miles upstream of the confluence with the Platte River) | ♢1,103
Platte River:
Approximately 800 feet upstream of the confluence with the Missouri River | ♢966 | Sarpy County (Unincorporated Areas).
At the northern County Boundary (approximately 5.11 miles upstream of the confluence of the Elkhorn River) | ♢1,106
Springfield Creek:
At the confluence with the Platte River | ♢1,011 | Sarpy County (Unincorporated Areas).
Approximately 200 feet upstream of Buffalo Road | ♢1,011
ADDRESSES:
Unincorporated Areas of Sarpy County, Nebraska
Maps are available for inspection at the Community Map Repository, Sarpy County Courthouse, 1210 Golden Gate Drive, Papillion, Nebraska.

(Catalog of Federal Domestic Assistance No. 83.100, “Flood Insurance.”)

Dated: July 6, 2005.
David I. Maurstad,
Acting Director, Mitigation Division, Emergency Preparedness and Response Directorate.

[FR Doc. 05-13929 Filed 7-14-05; 8:45 am]

BILLING CODE 9110-12-P